DEPARTMENT OF THE INTERIOR

National Park Service

[NPS-WASO-NAGPRA-NPS0038298; PPWOCRADN0-PCU00RP14.R50000]

Notice of Inventory Completion: Weber State University, Ogden, UT

AGENCY: National Park Service, Interior.

ACTION: Notice.

SUMMARY: In accordance with the Native American Graves Protection and Repatriation Act (NAGPRA), Weber State University has completed an inventory of human remains and has determined that there is a cultural affiliation between the human remains and Indian Tribes or Native Hawaiian organizations in this notice.

DATES: Repatriation of the human remains in this notice may occur on or after August 19, 2024.

ADDRESSES: David Yoder, Weber State University, 1299 Edvalson Street, Dept. 1208, Ogden, UT 84408-1208, telephone (801) 896-6286, email davidyoder@weber.edu.

SUPPLEMENTARY INFORMATION: This notice is published as part of the National Park Service's administrative responsibilities under NAGPRA. The determinations in this notice are the sole responsibility of the Weber State University, and additional information on the determinations in this notice, including the results of consultation, can be found in its inventory or related records. The National Park Service is not responsible for the determinations in this notice.

Abstract of Information Available

Based on information available, human remains representing at least 12 individuals have been identified. No funerary objects are present. Eleven of the sets of remains were given to WSU in the 1960s and 1970s by private individuals. Seven of these have no associated provenience information and four were reportedly found in Weber or Davis County, Utah. The twelfth individual was turned over to WSU in the early 1990s and may have been found in Cache County, Utah. The number of materials vary, from an individual represented by a single tooth to an individual represented by ~85% of the skeleton present.

Cultural Affiliation

Based on the information available and the results of consultation, cultural affiliation is reasonably identified by the geographical location or acquisition history of the human remains described in this notice.

Determinations

Weber State University has determined that:

• The human remains described in this notice represent the physical remains of 12 individuals of Native American ancestry.

• There is a connection between the human remains described in this notice and the Northwestern Band of the Shoshone Nation; Paiute Indian Tribe of Utah (Cedar Band of Paiutes, Kanosh Band of Paiutes, Koosharem Band of Paiutes, Indian Peaks Band of Paiutes, and Shivwits Band of Paiutes); and the Ute Indian Tribe of the Uintah & Ouray Reservation, Utah.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after August 19, 2024. If competing requests for repatriation are received, Weber State University must determine the most appropriate requestor prior to repatriation. Requests for joint repatriation of the human remains are considered a single request and not competing requests. Weber State University is responsible for sending a copy of this notice to the Indian Tribes and Native Hawaiian organizations identified in this notice.

Authority: Native American Graves Protection and Repatriation Act, 25 U.S.C. 3003, and the implementing regulations, 43 CFR 10.10.

Dated: July 10, 2024.
Melanie O'Brien,
Manager, National NAGPRA Program.

[FR Doc. 2024-15896 Filed 7-18-24; 8:45 am]

BILLING CODE 4312-52-P